DEPARTMENT OF AGRICULTURE

Submission for OMB Review; Comment Request

July 21, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 24, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Cooperative Agricultural Pest Survey.

OMB Control Number: 0579-0010.

Summary of Collection: The Plant Protection Act (7 U.S.C. 3301—et seq.) authorizes the Secretary of Agriculture, either independently or in cooperation with States, to carry out operations or measures to detect, eradicate, suppress, control, prevent, or retard the spread of plant pests and noxious weeds. The Animal and Plant Health Inspection Service (APHIS), Plant Protection and Quarantine (PPQ), along with the States and other agencies, collects and manages data on plant pests, woods, and biological control agents through the Cooperative Agricultural Pest Survey (CAPS). The program allows the States and PPQ to conduct surveys to detect and measure the presence of exotic plant pests and weeds and to input surveillance data into a national computer-based system known as the National Agricultural Plant Information System (NAPIS).

Need and Use of the Information: APHIS collects information using cooperative agreements, pest detection surveys, and a Specimens for Determination form (PPQ Form 391), to predict potential plant pest and noxious weed situations and to promptly detect and respond to the occurrence of new pests and to record the location of those pest incursions that could directly hinder the export of U.S. farm commodities. If the information were not collected, it would seriously impact APHIS' ability to timely assist State personnel, and others involved in agriculture and protection of the environment in order to plan pest control measures, detect new outbreaks, and to determine the threat posed by migratory pests.

Description of Respondents: State, Local, or Tribal Government.

Number of Respondents: 54.

Frequency of Responses: Reporting; On occasion.

Total Burden Hours: 3,570.

Animal Plant and Health Inspection Service

Title: Swine Health Protection.

OMB Control Number: 0579-0065.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of P.O. 107-171, May 13, 2002, the Farm Security and Rural Investment Act of 2002. Veterinary Services, a program with the Animal and Plant Health Inspection Service (APHIS), is responsible for administering regulations intended to prevent the dissemination of animal diseases within the United States. Garbage is one of the primary media through which numerous infections or communicable diseases of swine are transmitted. Because of the serious threat to the U.S. swine industry, Congress passed Public Law 96-468 “Swine Health Protection Act” on October 17, 1980. This law requires USDA to ensure that all garbage is treated prior to its being fed to swine that are intended for interstate or foreign commerce or that substantially affect such commerce. The Act and the regulations will allow only operators of garbage treatment facilities, which meet certain specification to utilize garbage for swine feeding. APHIS will use various forms to collect information.

Need and Use of the Information: APHIS collects information from persons desiring to obtain a permit (license) to operate a facility to treat garbage. Prior to issuance of a license, an inspection will be made of the facility by an authorized representative to determine if it meets all requirements of the regulations. Periodic inspections will be made to determine if licenses are meeting the standards for operation of their approved facilities. Upon receipt of the information from the Animal Health Officials, the information is used by Federal or State animal health personnel to determine whether the waste collector is feeding garbage to swine, whether it is being treated, and whether the feeder is licensed or needs to be licensed.

Description of Respondents: Business or other for profit; State, Local or Tribal Government.

Number of Respondents: 15,150.

Frequency of Responses: Recordkeeping; Reporting: On occasion.

Total Burden Hours: 1,715,545.

Animal and Plant Health Inspection Service

Title: Importation of Live Swine (from Certain Regions), Pork, and Pork Products.

OMB Control Number: 0579-0230.

Summary of Collection: The Animal Health Protection Act (AHPA) of 2002 is the primary Federal law governing the protection of animal health. The law gives the Secretary of Agriculture broad authority to detect, control, or eradicate pests or diseases of livestock or poultry. The regulations under which the Animal and Plant Health Inspection Service (APHIS) conducts disease prevention activities are contained in Title 9, Chapter 1, Subchapter D, Part 94. These regulations place certain restrictions on the importation of swine, pork, and pork products into the United States. Regulations regarding other animal products and byproducts can be found at 95 and 112.

Need and Use of the Information: APHIS will collect information to ensure regulatory compliance for mitigation of classical swine fever (CSF) from imports of swine (from certain regions), pork, and pork products into the United States. To ensure this the regulations include information collection activities such as certification for importation of pork or pork products; application of seal; location and reason for breaking seal and application of new seal; termination of agreement; request for approval of defrost facility; request hearing for denial or approval of defrost facility; application for import of small amounts of pork or pork products; cooperative service agreement; notification of Customs and Border Protection inspectors for pork from specific regions; recordkeeping requirements for certificates; certificates for meat processed in tubes; certification for importation of hams; agreement for processing procedures; identification procedures; recordkeeping for processing origin of hams; and program statements.

If this information were collected less frequently or not collected at all, the United States would be at increased risk for the introduction of rinderpest, FMD, SF, CSF and SVD. This would cause serious economic consequences to U.S. Agricultural exports and several U.S. livestock industries and have potentially serious health consequences for U.S. livestock.

Description of Respondents: Full-time, salaried veterinary officers employed by the governments of Brazil, Chile, and Mexico; industry representatives; and U.S. importers.

Number of Respondents: 101.

Frequency of Responses: Reporting: On occasion.

Total Burden Hours: 58,996.

Animal and Plant Health Inspection Service

Title: Importation of Live Fish, Fertilized Eggs, and Gametes from Tilapia Lake Virus-Susceptible Species.

OMB Control Number: 0579-0473.

Summary of Collection: The Animal Health Protection Act (7 U.S.C. 8301 et seq.) authorizes the Secretary of Agriculture, either independently or in cooperation with States, to prohibit or restrict the importation and interstate movement of animals and animal products to prevent the introduction into and dissemination within the United States of livestock diseases and pests. To carry out this mission, APHIS regulates the importation of animals and animal products into the United States.

Need and Use of the Information: APHIS has determined that the introduction and establishment of Tilapia Lake Virus (TiLV) posed a serious threat to U.S. agriculture and published a Federal Order placing certain requirements on the importation of all live fish, fertilized eggs, and gametes from TiLV-susceptible species imported from all countries. These imported items must be accompanied by a U.S. Department of Agriculture-issued import permit, an official veterinary health certificate, and evidence of a veterinary inspection at a designated U.S. port of entry before being allowed entry into the United States.

Description of Respondents: State, Local, or Tribal Government, Importers, and Veterinarians.

Number of Respondents: 57.

Frequency of Responses: Reporting; On occasion.

Total Burden Hours: 96 hours.

Ruth Brown,
Departmental Information Collection Clearance Officer.

[FR Doc. 2020-16054 Filed 7-23-20; 8:45 am]

BILLING CODE 3410-34-P